DEPARTMENT OF EDUCATION

Upward Bound Program

AGENCY: Office of Postsecondary Education, Department of Education.

ACTION: Notice of proposed priority.

SUMMARY: The Assistant Secretary for Postsecondary Education proposes to establish a priority under the Upward Bound Program. We are proposing to establish this priority to focus Federal resources on students most in need of academic assistance and to increase the effectiveness of the Upward Bound Program. We propose this priority to increase the number of low-income, first generation students with the “greatest academic need” for program services that participate in the Upward Bound program, and to provide all Upward Bound participants an opportunity to receive services for four years.

DATES: We must receive your comments on or before August 2, 2006.

ADDRESSES: Address all comments about this proposed priority to Geraldine Smith, U.S. Department of Education, 1990 K Street, NW., room 7020, Washington, DC 20006-8512. If you prefer to send your comments through the Internet, use the following address: TRIO@ed.gov.

You must include the term “Upward Bound Comments” in the subject line of your electronic message.

FOR FURTHER INFORMATION CONTACT: Gaby Watts. Telephone: (202) 502-7545 or via Internet: gaby.watts@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in room 7020, 1990 K Street, NW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

Background

The Upward Bound Program is one of eight programs known as the Federal TRIO Programs. Under the Upward Bound Program, the Department provides discretionary grants to institutions of higher education, public and private agencies and organizations, and combinations of institutions, agencies and organizations. The Upward Bound Program supports projects that are designed to generate, in eligible students, the skills and motivation necessary for success in education beyond secondary school. Projects under the Upward Bound Program provide, among other services, instruction in reading, writing, mathematics, science, study skills, and other subjects necessary for success in education beyond high school.

An assessment of the Upward Bound Program using the Office of Management and Budget's Program Assessment Rating Tool resulted in an “Ineffective” rating because the program has not been able to demonstrate positive overall results. In 1991, Mathematica Policy Research, Inc., under contract to the Department of Education, initiated an ongoing evaluation of Upward Bound, based on a random assignment design. A 2004 report titled, The Impacts of Regular Upward Bound: Results from the Third Follow-Up Data Collection (“The Study”), found that the overall impact of Upward Bound programs on the high school and early college outcomes of participants was not significantly different from those of a control group. However, the Study did indicate that Upward Bound has a statistically significant positive impact on students with lower educational expectations. For students with lower educational expectations, i.e., students who did not expect to complete a bachelor's degree when they applied to Upward Bound, participation in the program more than doubles the likelihood those students attend a four-year college or university, raising the enrollment rate from 18 percent to 38 percent. For this group of students, participation in Upward Bound also improves high school preparation for postsecondary education, increasing the total number of academic credits earned in high school and the number of Advanced Placement credits earned. It also increases early college persistence. The Study may be reviewed at: http://www.ed.gov/rschstat/eval/highered/upward/upward-3rd-report.html.

It is difficult, however, to screen applicants based on their educational expectations. There is no reliable way of objectively determining a person's expectation. If it became common knowledge that students with lower expectations were more likely to be admitted than were students with higher expectations, applicants would have a strong incentive to understate their educational expectations in the application process. We do know that low educational expectations are more prevalent among students with high academic risk for failure. Therefore, we propose this priority to target the program to students with a high academic risk for failure.

Under this proposed priority, otherwise eligible students deemed to have “high academic risk for failure” would be those who—

1. Have not achieved at the proficient level on State assessments in reading/language arts for grade eight;

2. Have not achieved at the proficient level on State assessments in math for grade eight; or

3. Have a grade point average of 2.5 or less (on a 4.0 scale) for the most recent school year for which grade point averages are available.

These criteria are consistent with the overall purpose and goals of the Upward Bound Program. Section 402C(a) of the HEA requires Upward Bound projects to be designed to generate skills and motivation necessary for success in education beyond secondary school. The Department's regulations for the Upward Bound Program in 34 CFR 645.3 implement this statutory goal in the eligibility requirements for participating in an Upward Bound project. Those requirements specify, among other things, that a student must have a need for academic support, as determined by the grantee, in order to pursue successfully a program of education beyond high school. Commonly used criteria for determining a student's “need for academic support” are the student's GPA and performance on standardized tests.

In addition, by using State academic achievement assessments to determine student eligibility for services, Upward Bound projects will be able to align their programs with the requirements and activities supported by the No Child Left Behind Act of 2001.

The Study also revealed that, among Upward Bound participants, 35 percent participate for 1 to 12 months, 28 percent participate for 13 to 24 months and 36 percent participate for 25 or more months. The Study found that 40 percent complete the program, that is, participate in Upward Bound through high school graduation. Students who applied for Upward Bound in the summer after completing eighth grade typically spent more time in Upward Bound than other participants (42 months). The Study concluded that, for students who participated in Upward Bound for less than two years, an additional year of Upward Bound participation could raise the postsecondary enrollment rate by as much as nine percentage points. For Upward Bound participants who did not complete the program, the Study found that program completion could raise postsecondary enrollment by as much as 17 percentage points. Therefore, we are proposing in this priority to give students an opportunity to receive a minimum of three years, and potentially four years of Upward Bound services by targeting projects that propose to select all first-time participants from among otherwise eligible students who have completed the 8th grade, but not the 9th grade, in secondary school.

To evaluate the outcomes of projects funded under this priority, the Department plans to conduct a rigorous evaluation of the impacts of the Upward Bound Program. Under 34 CFR 75.591, grantees must cooperate in the evaluation. As specified in the proposed priority, any regular Upward Bound grantee may be selected to participate in the evaluation. Each selected grantee would be required to recruit at least twice as many eligible new students in project year 2007-2008 as the grantee plans to serve in its project. Of that larger pool of eligible new students at least 30 percent must meet the definition of “high academic risk for failure.” Grantees selected to participate in the evaluation would be required to refrain from admitting new students into their Upward Bound projects for project year 2007-2008 until the evaluator has completed its data collection and random assignment for those students. Eligible new students will be assigned randomly by the evaluator either to participate in Upward Bound or to serve as part of a control group (not in Upward Bound).

We will announce the final priority in a notice in the Federal Register. We will determine the final priority after considering responses to this notice and other information available to the Department. This notice does not preclude us from proposing or funding additional priorities, subject to meeting applicable requirements.

Note: This notice does not solicit applications. In any year in which we choose to use this proposed priority, we will invite applications through a notice in the Federal Register.

Priority

Proposed Absolute Priority: Upward Bound Program Participant Selection

This priority supports Upward Bound Program projects that select first-time participants from otherwise eligible students who have completed the 8th grade but not the 9th grade in secondary school, and that select not less than 30 percent of all first-time participants from students who have “high academic risk for failure.”

Otherwise eligible students deemed to have “high academic risk for failure” are those who—

1. Have not achieved at the proficient level on State assessments in reading/language arts for grade eight;

2. Have not achieved at the proficient level on State assessments in math for grade eight; or

3. Have a grade point average of 2.5 or less (on a 4.0 scale) for the most recent school year for which grade point averages are available.

To meet this priority, an applicant also must agree to conduct its Upward Bound project in a manner consistent with the evaluation that the Department plans to conduct for the Upward Bound Program. An applicant also must agree, if selected to participate in the evaluation, to—

1. Recruit at least twice as many eligible new students in project year 2007-2008 as the grantee plans to serve in its project. Of that larger pool of eligible new students at least 30 percent must meet the definition of “high academic risk for failure;”

2. Refrain from admitting new students into its Upward Bound project for project year 2007-2008 until the evaluator has completed its data collection and random assignment for those students; and

3. Agree that eligible new students will be assigned randomly by the evaluator either to participate in Upward Bound or to serve as part of a control group (not in Upward Bound).

This proposed absolute priority does not apply to the Veterans Upward Bound projects and Upward Bound Math/Science projects.

Executive Order 12866

This notice of proposed priority has been reviewed in accordance with Executive Order 12866. Under the terms of the order, we have assessed the potential costs and benefits of this regulatory action.

The potential costs associated with the notice of proposed priority are those resulting from statutory requirements and those we have determined are necessary for administering this program effectively and efficiently.

In assessing the potential costs and benefits—both quantitative and qualitative—of this notice of proposed priority, we have determined that the benefits of the proposed priority justify the costs.

We have also determined that this action does not unduly interfere with State, local, and tribal governments in the exercise of their governmental functions.

Intergovernmental Review

This Program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 645.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.047A Upward Bound Program)

Program Authority: 20 U.S.C. 1070a-13.

Dated: June 28, 2006.
James F. Manning,
Acting Assistant Secretary for Postsecondary Education.

[FR Doc. E6-10398 Filed 6-30-06; 8:45 am]

BILLING CODE 4000-01-P